DEPARTMENT OF COMMERCE

National Oceanic and Atmospheric Administration

RIN 0648-XG330

North Pacific Fishery Management Council; Public Meeting

AGENCY: National Marine Fisheries Service (NMFS), National Oceanic and Atmospheric Administration (NOAA), Commerce.

ACTION: Notice of public meeting.

SUMMARY: The North Pacific Fishery Management Council (Council) Ecosystem Committee will meet in Anchorage, AK, in July.

DATES: The meeting will be held on Tuesday July 24, 2018, from 9 a.m. to 5 p.m.

ADDRESSES: The meeting will be held at the Hilton Hotel in the Chart Room, 500 W 3rd Ave., Anchorage, AK 99501.

Council address: North Pacific Fishery Management Council, 605 W 4th Ave., Suite 306, Anchorage, AK 99501-2252; telephone: (907) 271-2809.

FOR FURTHER INFORMATION CONTACT: Steve MacLean, Council staff; telephone: (907) 271-2809.

SUPPLEMENTARY INFORMATION:

Agenda

Tuesday, July 24, 2018

The meeting agenda includes: Review of the Draft Bering Sea Fishery Ecosystem Plan.

The Agenda is subject to change, and the latest version will be posted at: https://www.npfmc.org/committees/ecosystem-committee.

Public Comment

Public comment letters will be accepted and should be submitted either electronically to Steve MacLean, Council staff: steve.maclean@noaa.gov or through the mail: North Pacific Fishery Management Council, 605 W 4th Ave., Suite 306, Anchorage, AK 99501-2252. In-person oral public testimony will be accepted at the discretion of the co-chairmen.

Special Accommodations

The meeting is physically accessible to people with disabilities. Requests for sign language interpretation or other auxiliary aids should be directed to Shannon Gleason at (907) 271-2809 at least 7 working days prior to the meeting date.

Dated: July 3, 2018.
Tracey L. Thompson,
Acting Deputy Director, Office of Sustainable Fisheries, National Marine Fisheries Service.

[FR Doc. 2018-14627 Filed 7-6-18; 8:45 am]

BILLING CODE 3510-22-P